DEPARTMENT OF COMMERCE

International Trade Administration

(A-549-817)

Certain Hot-Rolled Carbon Steel Flat Products from Thailand: Final Results of Antidumping Duty Administrative Review and Partial Rescission of Antidumping Duty Administrative Review

AGENCY: Import Administration, International Trade Administration, Department of Commerce.

SUMMARY: The Department of Commerce (“the Department”) has conducted an administrative review of the antidumping duty order on certain hot-rolled carbon steel flat products from Thailand produced and/or exported by Nakornthai Strip Mill Public Co., Ltd. (“NSM”) and G Steel Public Company Limited (“G Steel”). The period of review (“POR”) is November 1, 2004, through October 31, 2005. Based on our analysis of comments received, we have made certain clerical error corrections for these final results which change the margin. The final results are listed below in the “Final Results of Review” section.

EFFECTIVE DATE: May 17, 2007.

FOR FURTHER INFORMATION CONTACT: Stephen Bailey or Angelica Mendoza, Import Administration, International Trade Administration, U.S. Department of Commerce, 14th Street and Constitution Ave, NW, Washington, DC 20230; telephone: (202) 482-0193 and (202) 482-3019, respectively.

SUPPLEMENTARY INFORMATION:

Background

On November 8, 2006, the Department published the preliminary results and partial rescission of its administrative review of the antidumping duty order on certain hot-rolled carbon steel flat products (“hot-rolled steel”) from Thailand. See Certain Hot-Rolled Carbon Steel Flat Products From Thailand; Preliminary Results of Antidumping Duty Administrative Review and Rescission in Part, 71 FR 65458 (November 8, 2006) (Preliminary Results).

We invited parties to comment on our Preliminary Results. We received case briefs from respondent NSM, United States Steel Corporation (“petitioner”), and a domestic interested party, Nucor Corporation (“Nucor”), on January 8, 2007. We received rebuttal briefs from NSM, petitioner and Nucor on January 16, 2007. No public hearing was held.

Additionally, on November 8, and November 13, 2006, the Department issued supplemental questionnaires: one regarding possible affiliation between NSM and Siam Cement Group (“Siam”) and one requesting certain additional cost information. NSM provided responses to these supplemental questionnaires on November 17, and November 21, 2006, respectively.

Because the Department determined that it was not practicable to complete the final results of this review within the original time period, the Department extended the time limit for completion of the final results of this administrative review in accordance with section 751(a)(3)(A) of the Tariff Act of 1930, as amended (“the Act”). See Certain Hot-Rolled Carbon Steel Flat Products from Thailand: Extension of Time Limit for the Final Results of the Antidumping Duty Administrative Review, 72 FR 9515 (March 2, 2007).

Partial Rescission

In our Preliminary Results, we announced our preliminary decision to rescind the review with respect to G Steel because this company had no entries of hot-rolled steel from Thailand during the POR. See Preliminary Results. We have received no new information contradicting this decision. Therefore, we are rescinding the administrative review with respect to G Steel.

Scope of the Antidumping Duty Review

The products covered by this antidumping duty review are certain hot-rolled carbon steel flat products of a rectangular shape, of a width of 0.5 inch or greater, neither clad, plated, nor coated with metal and whether or not painted, varnished, or coated with plastics or other non-metallic substances, in coils (whether or not in successively superimposed layers), regardless of thickness, and in straight lengths, of a thickness of less than 4.75 mm and of a width measuring at least 10 times the thickness. Universal mill plate (i.e., flat-rolled products rolled on four faces or in a closed box pass, of a width exceeding 150 mm, but not exceeding 1250 mm, and of a thickness of not less than 4.0 mm, not in coils and without patterns in relief) of a thickness not less than 4.0 mm is not included within the scope of this review.

Specifically included within the scope of this review are vacuum degassed, fully stabilized (commonly referred to as interstitial-free (IF)) steels, high strength low alloy (HSLA) steels, and the substrate for motor lamination steels. IF steels are recognized as low carbon steels with micro-alloying levels of elements such as titanium or niobium (also commonly referred to as columbium), or both, added to stabilize carbon and nitrogen elements. HSLA steels are recognized as steels with micro-alloying levels of elements such as chromium, copper, niobium, vanadium, and molybdenum. The substrate for motor lamination steels contains micro-alloying levels of elements such as silicon and aluminum.

Steel products to be included in the scope of this review, regardless of definitions in the Harmonized Tariff Schedule of the United States (HTSUS), are products in which: i) iron predominates, by weight, over each of the other contained elements; ii) the carbon content is 2 percent or less, by weight; and iii) none of the elements listed below exceeds the quantity, by weight, respectively indicated:

1.80 percent of manganese, or

2.25 percent of silicon, or

1.00 percent of copper, or

0.50 percent of aluminum, or

1.25 percent of chromium, or

0.30 percent of cobalt, or

0.40 percent of lead, or

1.25 percent of nickel, or

0.30 percent of tungsten, or

0.10 percent of molybdenum, or

0.10 percent of niobium, or

0.15 percent of vanadium, or

0.15 percent of zirconium.

All products that meet the physical and chemical description provided above are within the scope of this review unless otherwise excluded. The following products, by way of example, are outside or specifically excluded from the scope of this review:

• Alloy hot-rolled steel products in which at least one of the chemical elements exceeds those listed above (including, e.g., American Society for Testing and Materials (ASTM) specifications A543, A387, A514, A517, A506).

• Society of Automotive Engineers (SAE)/American Iron & Steel Institute (AISI) grades of series 2300 and higher.

• Ball bearing steels, as defined in the HTSUS.

• Tool steels, as defined in the HTSUS.

• Silico-manganese (as defined in the HTSUS) or silicon electrical steel with a silicon level exceeding 2.25 percent.

• ASTM specifications A710 and A736.

• USS abrasion-resistant steels (USS AR 400, USS AR 500).

• All products (proprietary or otherwise) based on an alloy ASTM specification (sample specifications: ASTM A506, A507).

• Non-rectangular shapes, not in coils, which are the result of having been processed by cutting or stamping and which have assumed the character of articles or products classified outside chapter 72 of the HTSUS.

The merchandise subject to this review is classified in the HTSUS at subheadings: 7208.10.15.00, 7208.10.30.00, 7208.10.60.00, 7208.25.30.00, 7208.25.60.00, 7208.26.00.30, 7208.26.00.60, 7208.27.00.30, 7208.27.00.60, 7208.36.00.30, 7208.36.00.60, 7208.37.00.30, 7208.37.00.60, 7208.38.00.15, 7208.38.00.30, 7208.38.00.90, 7208.39.00.15, 7208.39.00.30, 7208.39.00.90, 7208.40.60.30, 7208.40.60.60, 7208.53.00.00, 7208.54.00.00, 7208.90.00.00, 7211.14.00.90, 7211.19.15.00, 7211.19.20.00, 7211.19.30.00, 7211.19.45.00, 7211.19.60.00, 7211.19.75.30, 7211.19.75.60, and 7211.19.75.90. Certain hot-rolled carbon steel flat products covered by this review, including: vacuum degassed fully stabilized; high strength low alloy; and the substrate for motor lamination steel may also enter under the following tariff numbers: 7225.11.00.00, 7225.19.00.00, 7225.30.30.50, 7225.30.70.00, 7225.40.70.00, 7225.99.00.90, 7226.11.10.00, 7226.11.90.30, 7226.11.90.60, 7226.19.10.00, 7226.19.90.00, 7226.91.50.00, 7226.91.70.00, 7226.91.80.00, and 7226.99.00.00. Subject merchandise may also enter under 7210.70.30.00, 7210.90.90.00, 7211.14.00.30, 7212.40.10.00, 7212.40.50.00, and 7212.50.00.00. Although the HTSUS subheadings are provided for convenience and CBP purposes, the written description of the merchandise is dispositive.

Analysis of Comments Received

The Department has received case and rebuttal briefs from petitioner, Nucor and NSM. All case and rebuttal briefs for the final results are addressed in the “Issues and Decision Memorandum for the Final Results of Antidumping Duty Administrative Review and Partial Rescission of Antidumping Duty Administrative Review of Certain Hot-Rolled Carbon Steel Flat Products from Thailand” from Stephen J. Claeys, Deputy Assistant Secretary, Import Administration, to David M. Spooner, Assistant Secretary, Import Administration, dated May 7, 2007 (Decision Memorandum), which is hereby adopted by this notice. Additionally, certain issues that contain proprietary information and arguments are addressed in the memorandum “Proprietary Arguments from the Issues and Decision Memorandum for the Final Results of Certain Hot-Rolled Carbon Steel Flat Products from Thailand” from Stephen J. Claeys, Deputy Assistant Secretary, Import Administration, to David M. Spooner, Assistant Secretary, Import Administration, dated May 7, 2007 (Proprietary Decision Memorandum), which is also hereby adopted by this notice. Attached to this notice as an Appendix is a list of the issues that petitioner, Nucor, and NSM have raised and to which we have responded to in the Decision Memorandum and Proprietary Decision Memorandum. Parties can find a complete discussion of all issues raised in this review and the corresponding recommendations in the Decision Memorandum, which is on file in the Department's Central Records Unit, located at 14th Street and Constitution Avenue, NW, Room B-099. In addition, a complete version of the Decision Memorandum can be accessed directly on the Import Administration website at http://ia.ita.doc.gov/ under the heading Federal Register Notices. The paper copy and electronic version of the Decision Memorandum are identical in content. Access to the proprietary version of the Proprietary Decision Memorandum is only through administrative protective order.¹

¹ A public version of the Proprietary Decision Memorandum is on file in the Department's Central Records Unit, located at 14th Street and Constitution Avenue, NW, Room B-099.

Changes Since the Preliminary Results

Based on our analysis of comments received, we made the following changes from the preliminary results:

1) We recalculated comparison market net price and duty drawback to avoid double conversion;

2) We adjusted NSM's reported costs to reflect the higher of transfer price or market price for the scrap purchased from one of NSM's affiliated suppliers (i.e., transactions disregarded rule);

3) We constructed a market price for a particular type of scrap with no market price for the purpose of applying the major input rule under section 773(f)(3) of the Act;

4) We adjusted variable cost of manufacture to account for scrap purchases and losses on scrap; and

5) We used home market net quantity in our analysis.

Final Results of Review

We determine that the following dumping margin exists for the period November 1, 2004, through October 31, 2005:

Manufacturer/Exporter | Margin (Percent)
NSM | 8.23

Assessment Rates

The Department will determine, and U.S. Customs and Border Protection (“CBP”) shall assess, antidumping duties on all appropriate entries, pursuant to section 751(a)(1)(B) of the Act, and 19 CFR 351.212(b). The Department calculated importer-specific duty assessment rates on the basis of the ratio of the total amount of antidumping duties calculated for the examined sales to the total entered value of the examined sales for that importer.

The Department clarified its “automatic assessment” regulation on May 6, 2003 (68 FR 23954). This clarification will apply to entries of subject merchandise during the period of review produced by companies included in these final results of reviews for which the reviewed companies did not know their merchandise was destined for the United States. In such instances, we will instruct CBP to liquidate unreviewed entries at the All-Others rate if there is no rate for the intermediate company(ies) involved in the transaction. For a full discussion of this clarification, see Notice of Policy Concerning Assessment of Antidumping Duties, 68 FR 23954 (May 6, 2003). Antidumping duties for the rescinded company G Steel, shall be assessed at rates equal to the cash deposit of estimated antidumping duties required at the time of entry, or withdrawal from warehouse, for consumption, in accordance with 19 CFR 351.212(c)(1)(I). The Department intends to issue assessment instructions to CBP 15 days after the date of publication of these final results of review.

Cash Deposit Requirements

The following deposit requirements will be effective upon publication of this notice of final results of administrative review all shipments of hot-rolled steel from Thailand entered, or withdrawn from warehouse, for consumption on or after the date of publication, as provided by section 751(a)(1) of the Act: (1) The cash deposit rates for the reviewed companies will be the rates indicated above; (2) for previously investigated companies not listed above, the cash deposit rate will continue to be the company-specific rate published for the most recent period; (3) if the exporter is not a firm covered in this review, or in the less-than-fair-value (“LTFV”) investigation, but the manufacturer is, then the cash deposit rate will be the rate established for the most recent period for the manufacturer of the merchandise; and (4) the cash deposit rate for all other manufacturers or exporters will continue to be 3.86 percent, the “all others” rate established in the LTFV investigation (66 FR 49622 September 28, 2001). These deposit requirements shall remain in effect until further notice.

Notification of Interested Parties

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of doubled antidumping duties.

This notice also serves as a reminder to parties subject to administrative protective orders (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation, which is subject to sanction.

We are issuing and publishing these final results and notice in accordance with sections 751(a)(1) and 777(i)(1) of the Act.

Dated: May 7, 2007.
David M. Spooner,
Assistant Secretary for Import Administration.

Appendix

List of Comments and Issues in the Decision Memorandum

Comment 1: Affiliation

Comment 2: Date of Sale

Comment 3: Major Input Rule

Comment 4: Depreciation Expense

Comment 5: Commissions Offset

Comment 6: Clerical Errors

[FR Doc. E7-9526 Filed 5-16-07; 8:45 am]

BILLING CODE 3510-DS-S